DEPARTMENT OF HEALTH AND HUMAN SERVICES

Administration for Community Living

Agency Information Collection Activities; Submission for OMB Review; Public Comment Request; ACL Program Performance Report Generic Information Collection, OMB Control Number 0985-NEW

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the ACL Program Performance Report Generic Information Collection, OMB 0985-NEW.

DATES: Comments on the collection of information must be submitted electronically by 11:59 p.m. (EDT) or postmarked by April 24, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Shannon Skowronski, Administration for Community Living, evaluation@acl.hhs.gov, (202) 795-7316.

SUPPLEMENTARY INFORMATION: In compliance with the Paperwork Reduction Act (44 U.S.C. 3506), the Administration for Community Living (ACL) has submitted the following proposed collection of information to OMB for review and clearance. In 1965, the Older Americans Act (OAA) was passed in response to concerns by policymakers about a lack of community social services for older adults. The OAA established authority for grants for community planning and social services, research and development projects, and personnel training in the field of aging. The Elder Justice Act (EJA), passed in 2010, is the first comprehensive legislation to address the abuse, neglect, and exploitation of older adults at the Federal level. OAA and EJA programs help advance ACL's mission of supporting the independence, well-being, and health of older adults, older adults with disabilities, and their families and caregivers. This proposed information collection will gather program performance data for ACL formula and competitive grant programs authorized by the Older Americans Act (OAA) and the Elder Justice Act (EJA), as required by and in accordance with Public Law 116-131 and 42 U.S.C. chapter 7, subchapter XX, division B (authorizing legislation); 45 CFR 75.342 (monitoring and reporting program performance); 45 CFR 75.301 (performance measurement); and the GPRA Modernization Act of 2010 (Pub. L. 111-352, sec. 12). The collection of program performance data is required for all ACL grantees, including grants authorized by the OAA and EJA, to: (1) monitor achievement of program performance objectives; (2) identify areas of performance that may benefit from technical assistance and/or corrective action; 3) establish program policy and direction; and (4) prepare responses and reports for Congress, the Office of Management and Budget (OMB), other federal departments, and public and private agencies, including legislatively required reports.

ACL consistently looks for ways to streamline the collection of required program performance data. The proposed ACL Program Performance Report Generic Information Collection would provide an efficient mechanism for the collection of a core set of program performance data elements across OAA and EJA authorized programs necessary to ensure each programs indicators, demographics, priorities, and objectives are being achieved. The collection of this core set of performance elements will enable ACL to analyze program performance broadly across its grantee portfolio, while minimizing grantee reporting burden. Program offices will be given the opportunity to submit, for review and approval under this generic clearance, PPRs for their programs that address the core program performance elements.

Comments in Response to the 60-Day Federal Register Notice

A 60-day notice published in the Federal Register on December 5, 2023, at 88 FR 84335. ACL received two public comments. A summary of the comments and the ACL response is provided below:

Comment One: Suggest including more specific instructions for completing the elements in the proposed ACL PPR template.

ACL response: While ACL appreciates this suggestion, the instructions for completing the elements must be somewhat broad to account for differences in the goals, objectives, and activities across the programs.

Comment Two: Request confirmation that the grantee will be responsible for submitting a comprehensive PPR each reporting period to ACL (as opposed to having grantees' subcontractors each submit individual reports to ACL).

ACL response: Although grantees could work with their subcontractors to gather information to complete their PPR, grantees would be responsible for submitting a comprehensive PPR to ACL for the specified reporting period.

Estimated Program Burden

ACL estimated total annual burden for this generic IC is 50,223.60 hours. This estimate is based on the current number of grantees for the OAA and EJA programs below, consideration of the program performance information necessary to ensure adequate progress toward program goals, and previous experience with program performance reporting.

Respondent/data collection activity | Number of respondents | Responses per respondent | Hours per response | Annual burden hours
State Formula Grantees | 112 | 1 | 70.3 | 7,873.60
Tribal Formula Grantees | 282 | 1 | 60 | 16,920
Competitive Grantees | 1,189 | 2 | 10 | 23,780
Veteran Organization Competitive Grantees | 275 | 12 | 0.5 | 1,650
Total Annual Hours |  |  |  | 50,223.60

Dated: March 19, 2024.
Alison Barkoff,
Principal Deputy Administrator for the Administration for Community Living, performing the delegable duties of the Administrator and the Assistant Secretary for Aging.

[FR Doc. 2024-06208 Filed 3-22-24; 8:45 am]

BILLING CODE 4154-01-P